INTERNATIONAL TRADE COMMISSION

[Investigation No. 337-TA-1222]

Certain Video Processing Devices, Components Thereof, and Digital Smart Televisions Containing the Same; Commission Determination Not To Review an Initial Determination Terminating the Investigation Due to Settlement and Setting a Schedule for Briefing an Order Concerning Sanctions; Termination of Investigation

AGENCY: International Trade Commission.

ACTION: Notice.

SUMMARY: Notice is hereby given that the U.S. International Trade Commission (the “Commission”) has determined not to review an initial determination (“ID”) (Order No. 76) issued by the presiding administrative law judge (“ALJ”) terminating the investigation due to a settlement agreement. The Commission has also set a briefing schedule in connection with Order No. 75 denying a motion for sanctions. This investigation is hereby terminated.

FOR FURTHER INFORMATION CONTACT: Carl P. Bretscher, Office of the General Counsel, U.S. International Trade Commission, 500 E Street SW, Washington, DC 20436, telephone (202) 205-2382. Copies of non-confidential documents filed in connection with this investigation may be viewed on the Commission's electronic docket system (“EDIS”) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on October 19, 2020, based on a complaint, as supplemented, filed by DivX, LLC (“DivX”) of San Diego, California. 85 FR 66355 (Oct. 19, 2020). The complaint alleges a violation of section 337 of the Tariff Act, as amended, 19 U.S.C. 1337, from the importation, sale for importation, or sale in the United States after importation of certain video processing devices, components thereof, and digital smart televisions containing the same by reason of infringement of one or more asserted claims of U.S. Patent Nos. 8,832,297; 10,212,486; 10,412,141; and 10,484,749. Id. The complaint further alleges the existence of a domestic industry. Id.

The Commission's notice of investigation names the following respondents: Samsung Electronics Co., Ltd. of Gyeonggi-do, Korea; Samsung Electronics America, Inc. of Ridgefield Park, New Jersey; Samsung Electronics HCMC CE Complex Co., Ltd. of Ho Chi Minh City, Vietnam (collectively, “Samsung”); LG Electronics Inc. of Seoul, Korea; LG Electronics U.S.A., Inc. of Englewood Cliffs, New Jersey (collectively “LG”); MediaTek, Inc. of Hsinchu City, Taiwan; MediaTek USA Inc. of San Jose, California; MStar Semiconductor, Inc. of Hsinchu Hsien, Taiwan (collectively, “MediaTek”); Realtek Semiconductor Corp. of Hsinchu, Taiwan (“Realtek”); TCL Corporation of Huizhou, Guangdong, China; TCL Technology Corporation of Huizhoug, Guangdong, China; TCL Electronics Holdings Ltd. of Shenzhen, Guangdong, China; TTE Technology, Inc. of Corona, California; Shenzhen TCL New Technologies Co. of Shenzhen, Guangdong, China; TCL King Electrical Appliances (Huizhou) Co. Ltd. of Huizhou, Guangdong, China; TCL MOKA International Ltd. of Sha Tin, New Territories, Hong Kong; and TCL Smart Device (Vietnam) Co., Ltd. of Bac Tan Uyen District, Binh Duong Province, Vietnam (collectively, “TCL”). Id. at 66356. The Office of Unfair Import Investigations was not named as a party to this investigation. Id.

The Commission has partially terminated the investigation with respect to certain patents and patent claims. Order No. 25 (Jan. 15, 2021), unreviewed by Comm'n Notice (Feb. 1, 2021); Order No. 34 (Feb. 19, 2021), unreviewed by Comm'n Notice (March 15, 2021); Order No. 49 (April 21, 2021), unreviewed by Comm'n Notice (May 10, 2021); Order No. 65 (June 28, 2021), unreviewed by Comm'n Notice (July 28, 2021).

The Commission has also partially terminated the investigation with respect to certain respondents due to settlement agreements. See Order No. 37 (terminating MediaTek), unreviewed by Comm'n Notice (March 12, 2021); Order No. 67 (July 16, 2021) (terminating RealTek), unreviewed by Comm'n Notice (Aug. 4, 2021); Order No. 69 (Aug. 12, 2021) (terminating LG, Samsung), unreviewed by Comm'n Notice (Sept. 15, 2021).

On April 19, 2022, DivX and TCL jointly moved to terminate the investigation based on a settlement agreement that resolves the dispute between the parties.

On April 22, 2022, the presiding ALJ issued the subject ID (Order No. 76) granting the joint motion to terminate the investigation based on the settlement agreement. The ID finds that, pursuant to Commission Rules 210.21(a)(1), (b)(1) (19 CFR 210.21(a)(1), (b)(1)), DivX and TCL have represented that there are no other agreements, express or implied, oral or written, between them regarding the subject matter of this investigation. The ID further finds that termination is proper because it would not be contrary to the public health and welfare, competitive conditions in the U.S. economy, the production of like or directly competitive conditions in the United States, or U.S. consumers. The ID further finds that termination is in the public interest, and it will conserve public and private resources.

No party filed a petition for review of the subject ID.

On October 4, 2021, former respondent RealTek filed a motion for sanctions against DivX, pursuant to Commission Rules 210.4 and 210.25 (19 CFR 210.4, 210.25), for alleged misrepresentations and misconduct during the investigation. DivX filed its opposition to RealTek's motion on October 14, 2021.

On April 22, 2022, the presiding ALJ issued Order No. 75, denying RealTek's motion for sanctions. Order No. 75 (April 22, 2022).

The Commission has determined not to review Order No. 76. This investigation is hereby terminated.

The Commission has set the following schedule in connection with Order No. 75. Any petition for review of Order No. 75 must be filed by June 1, 2022. Responses to a petition for review, if any, must be filed by June 8, 2022.

The Commission voted to approve this determination on May 24, 2022.

The authority for the Commission's determinations is contained in Section 337 of the Tariff Act of 1930, as amended (19 U.S.C. 1337), and in part 210 of the Commission's Rules of Practice and Procedure (19 CFR part 210).

By order of the Commission.
Issued: May 24, 2022.
Lisa Barton,
Secretary to the Commission.

[FR Doc. 2022-11460 Filed 5-26-22; 8:45 am]

BILLING CODE 7020-02-P